DEPARTMENT OF HOMELAND SECURITY

Coast Guard

33 CFR Part 151

[Docket No. USCG-2018-0245]

RIN 1625-AC45

Ballast Water Management—Annual Reporting Requirement

Correction

In proposed rule document 2018-09877 beginning on page 21214 in the issue of Wednesday, May 9, 2018, make the following correction:

On page 21215, in the second column, the 39th line should read as follows:

COTP Captain of the Port

[FR Doc. C1-2018-09877 Filed 5-23-18; 8:45 am]

BILLING CODE 1301-00-D